NATIONAL AERONAUTICS AND SPACE ADMINISTRATION

[Notice: (15-032)]

Notice of Information Collection

AGENCY: National Aeronautics and Space Administration (NASA).

ACTION: Notice of information collection.

SUMMARY: The National Aeronautics and Space Administration, as part of its continuing effort to guide the development of space technologies, has released a draft version of the 2015 NASA Technology Roadmaps to the public. These Roadmaps, which expand and update the Technology Roadmaps released in 2012, consist of an introductory section and fifteen (15) distinct Technology Area roadmaps, which contain over 1,250 technology candidate snapshots. NASA is using specific questions to enable comment on the draft 2015 NASA Technology Roadmaps in a broad spectrum of areas.

DATES: Consideration will be given to all comments received within 30 days from the date of this publication. The Web site, 2015nasatechroadmaps.taurigroup.com, will open for comments on May 11, 2015 and will close on June 10, 2015. No submissions will be accepted after June 10, 2015.

FOR FURTHER INFORMATION CONTACT: Requests for additional information or instructions should be directed to Faith Chandler, Director Strategic Integration, Office of the Chief Technologist, NASA Headquarters, 300 E Street SW., Washington, DC 20546, at HQ-TechRoadmaps@mail.nasa.gov.

Title: NASA Technology Roadmap Comment.

Abstract: NASA is continually looking for opportunities to advance U.S. technology. NASA's technology development activities expand the frontiers of knowledge and capabilities in aeronautics, science, and space, which creates markets and products for U.S. industry, and supports other government agencies and academia.

The draft 2015 NASA Technology Roadmaps expand and update the original 2012 roadmaps, providing extensive details about anticipated NASA mission capability and associated technology development needs. NASA believes sharing these documents with the broader community will increase awareness, generate innovative solutions to provide the capabilities for space exploration and scientific discovery, and inspire others to get involved in America's space program.

The five questions on the Web site enable comment on the draft 2015 NASA Technology Roadmaps in a broad spectrum of areas, to describe partnership opportunities and needs, and to identify NASA technology development activities that will promote entrepreneurship, innovation, and development of new businesses. Those questions are:

Question 1: Confirm validity or propose a change to the description of state of the art.

Question 2: Identify interest in the use of a technology candidate for a space application.

Question 3: Identify interest in the use of a technology candidate for a non-space application.

Question 4: Describe interest in potential partnership (co-funding development) of a technology candidate.

Question 5: Suggest other changes to the draft 2015 NASA Technology Roadmaps.

When arriving on the home page of the Web site titled: “2015 NASA Technology Roadmaps: Request for Information Portal” located at: 2015nasatechroadmaps.taurigroup.com, the reviewer will be requested to register. Registration requires completing the following fields:

• Full name (maximum 200 characters),

• Organization (maximum 500 characters),

• Country in which organization is based (maximum 200 characters),

• Organization type (selection button),

• Email Address (maximum 200 characters),

• Brief description of the expertise (maximum 5,000 characters).

The reviewer should NOT include information of a confidential nature, such as sensitive personal information or proprietary information.

Cheryl E. Parker,
Federal Register Liaison Officer.

[FR Doc. 2015-11209 Filed 5-7-15; 8:45 am]

BILLING CODE 7510-13-P